ENVIRONMENTAL PROTECTION AGENCY

[FRL OP-OFA-029]

Environmental Impact Statements; Notice of Availability

Responsible Agency: Office of Federal Activities, General Information 202-564-5632 or https://www.epa.gov/nepa.

Weekly receipt of Environmental Impact Statements (EIS)

Filed August 1, 2022 10 a.m. EST Through August 8, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220111, Final, USACE, WA, BP Cherry Point Dock, Review Period Ends: 09/12/2022, Contact: Daniel A. Krenz 206-316-3153.

EIS No. 20220112, Final, BLM, CA, Whitewater River Groundwater Replenishment Facility Right of Way Project, Review Period Ends: 09/12/2022, Contact: Brandon G. Anderson 760-833-7105.

EIS No. 20220113, Final, FTA, IL, Chicago Transit Authority Red Line Extension Project, Contact: Elizabeth Breiseth 312-353-4315. Under 49 U.S.C. 304a(b), FTA has issued a single document that consists of a final environmental impact statement and record of decision. Therefore, the 30-day wait/review period under NEPA does not apply to this action.

EIS No. 20220114, Draft, STB, MO, Canadian Pacific Acquisition of Kansas City Southern, Comment Period Ends: 09/26/2022, Contact: Joshua Wayland 202-245-0330.

EIS No. 20220115, Draft Supplement, NPS, FL, Big Cypress National Preserve Backcountry Access Plan, Comment Period Ends: 09/26/2022, Contact: Scott Pardue 304-535-6026.

EIS No. 20220116, Final, USFS, AZ, 4FRI Rim Country Project, Review Period Ends: 09/12/2022, Contact: Kara Kirkpatrick-Kreitinger 928-527-3600.

Amended Notice:

EIS No. 20220086, Draft Supplement, NMFS, WA, The Makah Tribe Request to Hunt Gray Whales, Comment Period Ends: 10/14/2022, Contact: Grace Ferrara 206-526-6172. Revision to FR Notice Published 07/01/2022; Extending the Comment Period from 08/15/2022 to 10/14/2022.

EIS No. 20220092, Second Draft Supplemental, DOE, AR, Long Term Management and Storage of Elemental Mercury, Comment Period Ends: 09/06/2022, Contact: Julia Donkin 202-586-5000. Revision to FR Notice Published 07/08/2022; Extending the Comment Period from 08/22/2022 to 09/06/2022.

Dated: August 8, 2022.
Cindy S. Barger,
Director, NEPA Compliance Division, Office of Federal Activities.

[FR Doc. 2022-17359 Filed 8-11-22; 8:45 am]

BILLING CODE 6560-50-P